DEPARTMENT OF HEALTH AND HUMAN SERVICES

Food and Drug Administration

Gastrointestinal Drugs Advisory Committee; Cancellation

AGENCY: Food and Drug Administration, HHS.

ACTION: Notice.

SUMMARY: The Food and Drug Administration (FDA) is canceling the meeting of the Gastrointestinal Drugs Advisory Committee scheduled for April 12, 2000. This meeting was announced in the Federal Register of February 17, 2000 (65 FR 8180).

FOR FURTHER INFORMATION CONTACT: Karen M. Templeton-Somers, Center for Drug Evaluation and Research (HFD-21), Food and Drug Administration, 5600 Fishers Lane, Rockville, MD 20857, 301-827-7001, or FDA Advisory Committee Information Line, 1-800-741-8138 (301-443-0572 in the Washington, DC area), code 12538.

Dated: March 28, 2000.
Linda A. Suydam,
Senior Associate Commissioner.

[FR Doc. 00-8414 Filed 4-5-00; 8:45 am]

BILLING CODE 4160-01-F